DEPARTMENT OF ENERGY

Federal Energy Regulatory Commission

Combined Notice of Filings

Take notice that the Commission has received the following Natural Gas Pipeline Rate and Refund Report filings:

Filings Instituting Proceedings

Docket Numbers: RP15-495-000.

Applicants: Algonquin Gas Transmission, LLC.

Description: Section 4(d) rate filing per 154.204: AGT Statements of Negotiated Rates Tariff Volume to be effective 4/1/2015.

Filed Date: 2/23/15.

Accession Number: 20150223-5070.

Comments Due: 5 p.m. ET 3/9/15.

Docket Numbers: RP15-496-000.

Applicants: Midwestern Gas Transmission Company.

Description: Section 4(d) rate filing per 154.204: Negotiated Rate PAL Agreement—Duke Energy Indiana, Inc. to be effective 2/23/2015.

Filed Date: 2/23/15.

Accession Number: 20150223-5123.

Comments Due: 5 p.m. ET 3/9/15.

Docket Numbers: RP15-497-000.

Applicants: East Tennessee Natural Gas, LLC.

Description: Section 4(d) rate filing per 154.204: Move Neg Rate for Contract 661310 to be effective 3/1/2015.

Filed Date: 2/23/15.

Accession Number: 20150223-5154.

Comments Due: 5 p.m. ET 3/9/15.

Docket Numbers: RP15-498-000.

Applicants: Transcontinental Gas Pipe Line Company.

Description: Section 4(d) rate filing per 154.403(d)(2): 2015 Annual Fuel Tracker to be effective 4/1/2015.

Filed Date: 2/23/15.

Accession Number: 20150223-5198.

Comments Due: 5 p.m. ET 3/9/15.

Docket Numbers: RP15-499-000.

Applicants: Iroquois Gas Transmission System, L.P.

Description: Section 4(d) rate filing per 154.204: 02/23/15 Negotiated Rates—ConEdison Energy Inc. (HUB) 2275-89 to be effective 2/20/2015.

Filed Date: 2/23/15.

Accession Number: 20150223-5216.

Comments Due: 5 p.m. ET 3/9/15.

Docket Numbers: RP15-500-000.

Applicants: Iroquois Gas Transmission System, L.P.

Description: Section 4(d) rate filing per 154.204: 02/23/15 Negotiated Rates—Mercuria Energy Trading Gas LLC (HUB) 7540-89 to be effective 2/20/2015.

Filed Date: 2/23/15.

Accession Number: 20150223-5235.

Comments Due: 5 p.m. ET 3/9/15.

Docket Numbers: RP15-501-000.

Applicants: Guardian Pipeline, L.L.C.

Description: Section 4(d) rate filing per 154.204: Negotiated Rate PAL Agreement—MIECO, Inc. to be effective 2/23/2015.

Filed Date: 2/23/15.

Accession Number: 20150223-5240.

Comments Due: 5 p.m. ET 3/9/15.

Docket Numbers: RP15-502-000.

Applicants: Iroquois Gas Transmission System, L.P.

Description: Section 4(d) rate filing per 154.204: 02/23/15 Negotiated Rates—Sequent Energy Management (HUB) 3075-89 to be effective 2/20/2015.

Filed Date: 2/23/15.

Accession Number: 20150223-5241.

Comments Due: 5 p.m. ET 3/9/15.

Docket Numbers: RP15-503-000.

Applicants: Iroquois Gas Transmission System, L.P.

Description: Section 4(d) rate filing per 154.204: 02/23/15 Negotiated Rates—United Energy Trading, LLC (HUB) 2275-89 to be effective 2/21/2015.

Filed Date: 2/23/15.

Accession Number: 20150223-5243.

Comments Due: 5 p.m. ET 3/9/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-23-002.

Applicants: Transwestern Pipeline Company, LLC.

Description: Compliance filing per 154.203: Compliance with RP15-23-001 Order on Rehearing to be effective 4/1/2015.

Filed Date: 2/23/15.

Accession Number: 20150223-5122.

Comments Due: 5 p.m. ET 3/9/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2015.
Nathaniel J. Davis, Sr.,
Deputy Secretary.

[FR Doc. 2015-04317 Filed 3-2-15; 8:45 am]

BILLING CODE 6717-01-P